DEPARTMENT OF AGRICULTURE

Rural Business-Cooperative Service

Repowering Assistance Program

AGENCY: Rural Business-Cooperative Service (RBS), USDA.

ACTION: Notice of funds availability (NOFA); new application window.

SUMMARY: RBS is announcing a new application window to submit applications for the Repowering Assistance Program under criteria established in the prior NOFA, which was published in this publication on June 12, 2009 (74 FR 28009). All payments will be made based upon the terms and conditions provided in the prior NOFA, which authorized $20 million for Fiscal Year (FY) 2009. This notice announces the availability of the remaining FY 2009 funds that were not requested under the previous NOFA.

DATES: Applications for participating in this program must be received by June 15, 2010.

FOR FURTHER INFORMATION CONTACT: For further information on this payment program, please contact USDA, Rural Development—Energy Division, Program Branch, Attention: Repowering Assistance Program, 1400 Independence Avenue, SW., Stop 3225, Washington, DC 20250-3225. Telephone: 202-720-1400.

SUPPLEMENTARY INFORMATION: On June 12, 2009, RBS published a Notice of Funds Availability (NOFA) and Solicitation of Applications in the Federal Register announcing general policy and application procedures for the Repowering Assistance Program. Not all this funding was used and the remaining FY 2009 funding is available to make payments to eligible biorefineries to encourage the use of renewable biomass as a replacement fuel source for fossil fuels used to provide process heat or power in the operation of these eligible biorefineries. This Notice is for a one-time application window for remaining FY 2009 funds.

Paperwork Reduction Act

In accordance with the Paperwork Reduction Act (PRA), the paperwork burden associated with this Notice of Funds Availability (NOFA) has been approved by the Office of Management and Budget (OMB) under OMB Control Number 0570-0058.

The PRA burden associated with the original FY 2009 Notice was approved by OMB under emergency conditions, with an opportunity to comment on the burden associated with the program, and was intended to be a one-time approval. Since the emergency approval of the original FY 2009 Notice for this program, the Agency has resubmitted the PRA package to OMB and received regular approval. Applications and accompanying materials required under this Notice will be covered under the regular PRA package.

Since the publication of the FY 2009 Notice, the Agency has not received a sufficient number of qualified applications to allocate all of the FY 2009 authorized funds. Therefore, the Agency is opening a new application window to accept additional applications for the remaining FY 2009 funds for this program.

Biorefineries seeking funding under this program have to submit applications that include specified information, certifications, and agreements. Forms specific to the Repowering Assistance Program approved under OMB Control Number 0570-0058 are: (1) Form RD 9004-1, “Repowering Assistance Program Application,” and (2) Form RD 9004-2, “Repowering Assistance Program Agreement.” All of the forms, information, certifications, and agreements required to apply for this program under this Notice have been authorized under the emergency request and approved under OMB Control Number 0570-0058.

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

Dated: March 8, 2010.
Judith A. Canales,
Administrator, Rural Business-Cooperative Service.

[FR Doc. 2010-5378 Filed 3-11-10; 8:45 am]

BILLING CODE 3410-XY-P